DEPARTMENT OF HEALTH AND HUMAN SERVICES

Substance Abuse and Mental Health Services Administration

Center for Substance Abuse Prevention Drug Testing Advisory Board; Notice of Availability of Report of Fiscal Year 2023 Closed or Partially Closed Meetings

AGENCY: Substance Abuse and Mental Health Services Administration, HHS.

ACTION: Notice.

SUMMARY: A report summarizing the closed or partially closed meeting activities of the SAMHSA's Center for Substance Abuse Prevention Drug Testing Advisory Board during fiscal year 2023 has been prepared. A copy of this report has been filed with the Library of Congress.

DATES: Applicable Date: This notice is applicable October 21, 2024.

ADDRESSES: The report is available by contacting the DTAB designated federal official, Lisa Davis.

FOR FURTHER INFORMATION CONTACT: Lisa Davis, Lisa.Davis@samhsa.hhs.gov. Phone: (240) 276-1440.

SUPPLEMENTARY INFORMATION: There is a Departmental requirement to complete and submit an Annual Report on Federal advisory committees when an entire or portion of the meeting is closed to the public as required by Section 10(d) of the Federal Advisory Committee Act (FACA).

Copies of these reports for FY 2023 are being submitted to the Library of Congress, FACA Desk for public inspection and use.

Dated: October 21, 2024.
Carlos Castillo,
Committee Management Officer, SAMHSA.

[FR Doc. 2024-24834 Filed 10-24-24; 8:45 am]

BILLING CODE 4162-20-P